DEPARTMENT OF COMMERCE

Foreign-Trade Zones Board

[B-22-2020]

Foreign-Trade Zone 139—Sierra Vista, Arizona; Application for Reorganization (Expansion of Service Area) Under Alternative Site Framework; Correction

The Federal Register notice (85 FR 23506, April 28, 2020) describing the application submitted by the Arizona Regional Economic Development Foundation, grantee of Foreign-Trade Zone 139, requesting authority to expand its service area under the alternative site framework is corrected as follows:

In the heading of the notice, fourth line, the location of Foreign-Trade Zone 139 should read “Sierra Vista, Arizona.”

Dated: April 30, 2020.
Andrew McGilvray,
Executive Secretary.

[FR Doc. 2020-09675 Filed 5-5-20; 8:45 am]

BILLING CODE 3510-DS-P